DEPARTMENT OF TRANSPORTATION

Federal Motor Carrier Safety Administration

[Docket No. FMCSA-2007-0074]

Agency Information Collection Activities; New Information Collection: Share the Road Safely Outreach Program Assessment

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The proposed ICR will be used to collect information on commercial motor vehicle (CMV) and passenger car drivers' awareness of the Share the Road Safely Outreach Program safety messages and activities. On September 11, 2007, FMCSA published a Federal Register notice allowing for a 60-day comment period on the ICR. The Agency received one comment on the ICR.

DATES: Please submit your comments by February 19, 2008. OMB must receive your comments by this date in order to act quickly on the ICR.

ADDRESSES: All comments should reference DOT Docket Number FMCSA-2007-0074. You may submit comments to the Office of Information and Regulatory Affairs, Office of Management and Budget, 725 Seventeenth Street, NW., Washington, DC 20503, Attention: DOT/FMCSA Desk Officer.

FOR FURTHER INFORMATION CONTACT: Mr. Brian Ronk, Program Manager, FMCSA, Office of Outreach and Development, U.S. Department of Transportation, 1200 New Jersey Avenue, SE., Washington, DC 20590-0001. Telephone: (202) 366-1072; or e-mail brian.ronk@dot.gov. Office hours are from 8:30 a.m. to 5 p.m., Monday through Friday, except Federal holidays.

SUPPLEMENTARY INFORMATION: Title: Share the Road Safely Outreach Program Assessment.

OMB Control Number: 2126-XXXX.

Type of Request: New information collection.

Respondents: Public/licensed passenger car drivers.

Estimated Number of Respondents: 1500.

Estimated Time per Response: The estimated average burden per response is 10 minutes.

Expiration Date: N/A. This is a new information collection request.

Frequency of Response: This information collection will occur twice within the three year effective period of the OMB clearance; once in the initial year of approval and again two years following the initial data collection.

Estimated Average Total Annual Burden: 167 hours [1,500 respondents × 10 minutes/60 minutes per response × 2 telephone interviews/3 year ICR approval timeframe = 167].

Background

The purpose of this study is to assess the awareness of licensed drivers (both CMV and passenger car) regarding Share the Road Safely (STRS) messages and activities. The study will assist FMCSA in developing future STRS campaign messages and identifying target audiences and distribution strategies. The data will be collected through a telephone survey. Results of the study will not be published in the Federal Register, but used for internal research purposes by FMCSA to assess its outreach activities and identify additional opportunities to help raise the public's awareness of driving safely in, or around, large trucks and vehicles. A follow-up survey will be conducted two years after the initial data collection and compared against the results from the baseline assessment, then the IC will continue every two years thereafter.

FMCSA published a Federal Register notice allowing for a 60-day comment period on the ICR on September 11, 2007. The Agency received one comment regarding the need for it to develop and enforce more rigorous standards on the trucking industry. The commenter asserts that a program like “Share the Road Safely” is mind-boggling when the agency continues to let unsafe trucks travel on our nation's highways, license one-eyed drivers and those who submit spurious statements to support registration. FMCSA responded to the comment citing to section 4127 of the Safe, Accountable, Flexible, Efficient Transportation Equity Act: A Legacy for Users (SAFETEA-LU) (Pub. L. 109-59, 119 Stat. 1144; Aug. 10, 2005) which authorizes the Secretary of Transportation (Secretary) to conduct an outreach and education program to be administered by the Agency and the National Highway Traffic Safety Administration (NHTSA). The Agency affirmed the writer's concern about truck safety on our Nation's roadways and explained that the intent of the STRS program is to educate the public on how to prevent crashes, injuries and fatalities when sharing the road safely with large trucks, buses, and other types of vehicles. The FMCSA response also stressed that the STRS program assessment study is part of an effort to establish baseline data to determine the program's effectiveness.

Public Comments Invited: You are asked to comment on any aspect of this information collection, including: (1) Whether the proposed collection is necessary for FMCSA to perform its functions; (2) the accuracy of the estimated information collection burden; (3) ways for the FMCSA to enhance the quality, usefulness, and clarity of the collected information; and (4) ways that the burden could be minimized without reducing the quality of the information collected.

Issued on: January 10, 2008.
Terry Shelton,
Associate Administrator for Research and Information Technology.

[FR Doc. E8-794 Filed 1-16-08; 8:45 am]

BILLING CODE 4910-EX-P